DEPARTMENT OF TRANSPORTATION

Office of the Secretary

49 CFR Part 10

[Docket No. OST-96-1437]

RIN 2105-AC57

Maintenance of and Access to Records Pertaining to Individuals; Amendment

AGENCY: Office of the Secretary, Department of Transportation (DOT).

ACTION: Editorial correction to final rule.

SUMMARY: This amendment corrects an oversight in the last revision of the rules implementing the Privacy Act, by including the Maritime Administration as a DOT agency subject to these rules.

DATES: This correction is effective June 30, 1997.

FOR FURTHER INFORMATION CONTACT: Robert I. Ross, Office of the General Counsel, C-10, Department of Transportation, Washington, DC 20590; telephone (202) 366-9156, FAX (202) 366-9170; e-mail bob.ross@ost.dot.gov.

SUPPLEMENTARY INFORMATION: When DOT last revised its regulations implementing the Privacy Act (62 FR 23666; May 1, 1997), we unintentionally omitted the Maritime Administration as an agency of DOT subject to these regulations. It is and has been all along; hence, this correction merely clarifies that fact.

Analysis of Regulatory Impacts

This editorial correction is not a change in the existing rule; therefore, it is not a “significant regulatory action” within the meaning of Executive Order 12866, or significant within the definition in DOT's Regulatory Policies and Procedures, 49 FR 11034 (1979). It has no economic impact. I certify that this correction will not have a significant economic impact on a substantial number of small entities.

This editorial correction does not significantly affect the environment, and therefore an environmental impact statement is not required under the National Environmental Policy Act of 1969. It has also been reviewed under Executive Order 12612, Federalism, and it has been determined that it does not have sufficient implications for federalism to warrant preparation of a Federalism Assessment.

Finally, the correction does not contain any collection of information requirements requiring review under the Paperwork Reduction Act, as amended.

List of Subjects in 49 CFR Part 10

Privacy.

In accordance with the above, DOT amends 49 CFR Part 10 as follows:

PART 10—[AMENDED]

1. The authority citation for part 10 continues to read as follows:

Authority: 5 U.S.C. 552a; 49 U.S.C. 322.

2. In § 10.5, in the definition of “Department”, a new paragraph (j) is added and the introductory text of the section republished to read as follows:

§ 10.5 Definitions.

Unless the context requires otherwise, the following definitions apply in this part:

* * * * *

Department * * *

* * * * *

(j) Maritime Administration.

* * * * *

Issued in Washington, DC on July 27, 2000.
Rosalind A. Knapp,
Deputy General Counsel.

[FR Doc. 00-19764 Filed 8-4-00; 8:45 am]

BILLING CODE 4910-62-P